DEPARTMENT OF COMMERCE

International Trade Administration

[A-570-981, A-552-814]

Utility Scale Wind Towers From the People's Republic of China and the Socialist Republic of Vietnam: Final Results of Expedited First Sunset Reviews of Antidumping Duty Orders

AGENCY: Enforcement and Compliance, International Trade Administration, Department of Commerce.

SUMMARY: As a result of these sunset reviews, the Department of Commerce (Commerce) finds that revocation of the antidumping duty orders on utility scale wind towers (wind towers) from the People's Republic of China (China) and the Socialist Republic of Vietnam (Vietnam) would be likely to lead to continuation or recurrence of dumping at the level identified in the “Final Results of Review” section of this notice.

DATES: Applicable May 2, 2018.

FOR FURTHER INFORMATION CONTACT: Ariela Garvett, AD/CVD Operations, Office IV, Enforcement and Compliance, International Trade Administration, U.S. Department of Commerce, 1401 Constitution Avenue NW, Washington, DC 20230; telephone: (202) 482-3609.

SUPPLEMENTARY INFORMATION: On February 15, 2013, Commerce published the antidumping duty orders on wind towers from China and Vietnam.¹ On January 2, 2018, Commerce published the initiation of the first sunset review of the Orders, pursuant to section 751(c) of the Tariff Act of 1930, as amended (the Act).² On January 17, 2018, Commerce received timely notices of intent to participate in these reviews from the Wind Tower Trade Coalition (WTTC), a domestic interested party, within the deadline specified in 19 CFR 351.218(d)(1)(i).³ WTTC claimed interested party status under section 771(9)(C) and (F) of the Act as a coalition of manufacturers in the United States of a domestic like product. On February 5, 2018, Commerce received complete and adequate substantive responses from WTTC within 30-day deadline specified in 19 CFR 351.218(d)(3)(i).⁴ Commerce received no substantive responses from respondent interested parties. As a result, pursuant to section 751(c)(3)(B) of the Act and 19 CFR 351.218(e)(1)(ii)(C)(2), Commerce conducted expedited (120-day) sunset reviews of the AD Orders. Commerce exercised its discretion to toll all deadlines affected by the closure of the Federal Government from January 20 through 22, 2018. If the new deadline falls on a non-business day, in accordance with Commerce's practice, the deadline will become the next business day. The revised deadline for the final results is now May 7, 2018.⁵

¹ See Utility Scale Wind Towers from the People's Republic of China: Antidumping Duty Order, 78 FR 11146 (February 15, 2013); and Utility Scale Wind Towers from the Socialist Republic of Vietnam: Amended Final Determination of Sales at Less Than Fair Value and Antidumping Duty Order, 78 FR 11150 (February 15, 2013) (Orders).

² See Initiation of Five-Year (Sunset) Reviews, 83 FR 142 (January 2, 2018).

³ See WTTC's Letter, “Utility Scale Wind Towers from the People's Republic of China: Notice of Intent to Participate in Sunset Review” (January 17, 2018). See also Letter from WTTC to Commerce, “Utility Scale Wind Towers from the Socialist Republic of Vietnam: Notice of Intent to Participate in Sunset Review,” (January 17, 2018).

⁴ See WTTC's Letter, “Utility Scale Wind Towers from the People's Republic of China: Substantive Response to Notice of Initiation of Sunset Review” (February 5, 2018). See also WTTC's Letter, “Utility Scale Wind Towers from the Socialist Republic of Vietnam: Substantive Response to Notice of Initiation of Sunset Review” (February 5, 2018).

⁵ See Memorandum for The Record from Christian Marsh, Deputy Assistant Secretary for Enforcement and Compliance, performing the non-exclusive functions and duties of the Assistant Secretary for Enforcement and Compliance, “Deadlines Affected by the Shutdown of the Federal Government” (Tolling Memorandum), dated January 23, 2018. All deadlines in this segment of the proceeding have been extended by 3 days. In addition, because the deadline falls on a non-business day (i.e., the weekend), pursuant to Commerce's practice, the deadline will become the next business day. The revised deadline is May 7, 2018.

Scope of the Orders

The merchandise covered by these orders is certain wind towers, whether or not tapered, and sections thereof. Certain wind towers are designed to support the nacelle and rotor blades in a wind turbine with a minimum rated electrical power generation capacity in excess of 100 kilowatts and with a minimum height of 50 meters measured from the base of the tower to the bottom of the nacelle (i.e., where the top of the tower and nacelle are joined) when fully assembled.

A wind tower section consists of, at a minimum, multiple steel plates rolled into cylindrical or conical shapes and welded together (or otherwise attached) to form a steel shell, regardless of coating, end-finish, painting, treatment, or method of manufacture, and with or without flanges, doors, or internal or external components (e.g., flooring/decking, ladders, lifts, electrical buss boxes, electrical cabling, conduit, cable harness for nacelle generator, interior lighting, tool and storage lockers) attached to the wind tower section. Several wind tower sections are normally required to form a completed wind tower.

Wind towers and sections thereof are included within the scope whether or not they are joined with nonsubject merchandise, such as nacelles or rotor blades, and whether or not they have internal or external components attached to the subject merchandise.

Specifically excluded from the scope are nacelles and roto blades, regardless of whether they are attached to the wind tower. Also excluded are any internal or external components which are not attached to the wind towers or sections thereof.

Merchandise covered by the orders is currently classified in the Harmonized Tariff System of the United States (HTSUS) under subheadings 7308.20.0020 ⁶ or 8502.31.0000.⁷ Prior to 2011, merchandise covered by this review was classified in the HTSUS under subheading 7308.20.0000 and may continue to be to some degree. While HTSUS subheadings are provided for convenience and customs purposes, the written description of the subject merchandise is dispositive.

⁶ Wind towers are classified under HTSUS 7308.20.0020 when imported as a tower or tower section(s) alone.

⁷ Wind towers may also be classified under HTSUS 8502.31.0000 when imported as part of a wind turbine (i.e., accompanying nacelles and/or rotor blades).

Analysis of Comments Received

A complete discussion of all issues raised in these reviews, including the likelihood of continuation or recurrence of dumping in the event of revocation of the Orders and the magnitude of the margins likely to prevail if the Orders were revoked, is provided in the accompanying Issues and Decision Memorandum, which is hereby adopted by this notice.⁸ A list of the topics discussed in the Issues and Decision Memorandum is attached to this notice as Appendix. The Issues and Decision Memorandum is a public document and is on file electronically via Enforcement and Compliance's Antidumping and Countervailing Duty Centralized Electronic Service System (ACCESS). ACCESS is available to registered users at http://access.trade.gov and to all parties in the Central Records Unit, Room B8024 of the main Department of Commerce building. In addition, a complete version of the Issues and Decision Memorandum can be accessed directly on the internet at http://enforcement.trade.gov/frn/. The signed Issues and Decision Memorandum and the electronic version of the Issues and Decision Memorandum are identical in content.

⁸ See Memorandum, “Issues and Decision Memorandum for the Expedited First Sunset Reviews of the Antidumping Duty Orders on Utility Scale Wind Towers from the People's Republic of China and the Socialist Republic of Vietnam,” dated concurrently with this notice (Issues and Decision Memorandum).

Final Results of Sunset Reviews

Pursuant to sections 751(c)(1) and 752(c)(1) and (3) of the Act, Commerce determines that revocation of the Orders would be likely to lead to continuation or recurrence of dumping, and that the magnitude of the dumping margins likely to prevail would be weighted-average margins up to 60.02 percent for China and up to 58.54 percent for Vietnam.

Notification to Interested Parties

This notice serves as the only reminder to parties subject to administrative protective order (APO) of their responsibility concerning the return or destruction of proprietary information disclosed under APO in accordance with 19 CFR 351.305. Timely written notification of the return or destruction of APO materials, or conversion to judicial protective order, is hereby requested. Failure to comply with the regulations and terms of an APO is a violation which is subject to sanction.

We are issuing and publishing these results and notice in accordance with sections 751(c), 752(c), and 777(i)(1) of the Act, 19 CFR 351.218, and 19 CFR 351.221(c)(5)(ii).

Dated: April 26, 2018.
Christian Marsh,
Deputy Assistant Secretary for Enforcement and Compliance.

Appendix

List of Topics Discussed in the Issues and Decision Memorandum

I. Summary

II. Background

III. Scope of the Orders

IV. History of the Orders

V. Legal Framework

VI. Discussion of the Issues

1. Likelihood of Continuation or Recurrence of Dumping

2. Magnitude of the Dumping Margins Likely to Prevail

VII. Final Results of Sunset Reviews

VIII. Recommendation

[FR Doc. 2018-09312 Filed 5-1-18; 8:45 am]

BILLING CODE 3510-DS-P